ENVIRONMENTAL PROTECTION AGENCY

[OPP-00730B; FRL-6822-1]

Draft Guidance for Pesticide Registrants on New Labeling Statements for Spray and Dust Drift Mitigation; Extension of Comment Period

AGENCY: Environmental Protection Agency (EPA).

ACTION: Extension of comment period.

SUMMARY: On August 22, 2001, the Agency announced the availability of, and sought public comment on, the draft PR Notice titled ``Spray and Dust Drift Label Statements for Pesticide Products.'' On November 14, 2001, EPA published a notice extending the due date for comments until January 19, 2002. The Agency has received several requests to extend the public comment period further to allow commenters more time to prepare their responses to the PR Notice. The Agency believes that additional time is appropriate and would be beneficial; therefore, this notice extends the comment due date until March 31, 2002. PR Notices are issued by the Office of Pesticide Programs (OPP) to inform pesticide registrants and other interested persons about important policies, procedures and registration-related decisions, and serve to provide guidance to pesticide registrants and OPP personnel. This particular draft PR Notice provides guidance on drift label statements for pesticide products. The purpose of this new labeling is to provide pesticide registrants and applicators and other individuals responsible for pesticide applications with improved and more consistent product label statements for controlling pesticide drift from spray and dust applications in order to be protective of human health and the environment. The Agency invites comments on any aspect of the draft PR Notice as well as the specific issues addressed under SUPPLEMENTARY INFORMATION.

DATES: Comments, identified by the docket control number OPP-00730B, must be received on or before March 31, 2002.

ADDRESSES: Comments may be submitted by mail, electronically, or in person. Please follow the detailed instructions for each method as provided in Unit I.C. under SUPPLEMENTARY INFORMATION of the August 22, 2001 Federal Register. To ensure proper receipt by EPA, it is imperative that you identify docket control number OPP-00730B in the subject line on the first page of your response.

FOR FURTHER INFORMATION CONTACT: Jay Ellenberger, Field and External Affairs Division (7506C), Office of Pesticide Programs, Environmental Protection Agency, 1200 Pennsylvania Ave., NW., Washington, DC 20460; telephone number: (703) 305-7099, fax number: (703) 305-6244; and e-mail address: ellenberger.jay@epa.gov.

SUPPLEMENTARY INFORMATION:

I. General Information

A. Does this Action Apply to Me?

This action is directed to the public in general. It may be of particular interest, however, to those persons who hold pesticide registrations, apply pesticides, or regulate the use of pesticides for states, territories, or tribes. Since other entities may also be interested, the Agency has not attempted to describe all the specific entities that may be affected by this action. If you have any questions regarding the information in this notice, consult the person listed under FOR FURTHER INFORMATION CONTACT.

B. How Can I Get Additional Information, Including Copies of this Document?

1. Electronically. You may obtain electronic copies of this document and the draft PR Notice from the Office of Pesticide Programs' Home Page at http://www.epa.gov/pesticides/. You can also go directly to the listings from EPA Internet Home Page at http://www.epa.gov/. To access this document, on the Home Page select “Laws and Regulations” and then look up the entry for this document under the “Federal Register—Environmental Documents” or go directly to the Federal Register listings at http://www.epa.gov/fedrgstr/. A copy of the draft PR Notice is also available at http://www.epa.gov/opppmsd1/PR_Notices/prdraft-spraydrift801.htm.

2. Fax-on-demand. You may request a faxed copy of the draft PR Notice titled “Spray and Dust Drift Label Statements for Pesticide Products” by using a faxphone to call (202) 401-0527 and selecting item 6142. You may also follow the automated menu.

3. In person. The Agency has established an official record for this action under docket control number OPP-00730B. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

II. Background

In the Federal Register of August 22, 2001 (66 FR 44141) (FRL-6792-4), EPA announced the availability of a draft PR Notice titled “Spray and Dust Drift Label Statements for Pesticide Products.” The Agency provided a 90-day comment period, which was scheduled to end November 20, 2001. Subsequently, in the Federal Register of November 14, 2001 (66 FR 57098) (FRL-6811-3), EPA extended the comment period to January 19, 2002. In response to public comments, the Agency is extending the comment period for the draft PR Notice until March 31, 2002.

List of Subjects

Environmental protection, pesticides.

Dated: January 17, 2002.
Marcia E. Mulkey,
Director, Office of Pesticide Programs.

[FR Doc. 02-1758 Filed 1-18-02; 1:52 pm]

BILLING CODE 6560-50-S